DEPARTMENT OF HEALTH AND HUMAN SERVICES

Food and Drug Administration

[Docket No. 02N-0393]

Assessing Acrylamide in the U.S. Food Supply; Public Meeting; Draft Action Plan on Acrylamide; Availability; Correction

AGENCY: Food and Drug Administration, HHS.

ACTION: Notice of public meeting and availability; correction.

SUMMARY: The Food and Drug Administration is correcting a notice that appeared in the Federal Register of September 12, 2002. The document announced a public meeting entitled “Assessing Acrylamide in the U.S. Food Supply.” The document was published with an incorrect Internet address for an analytical test methodology to measure acrylamide levels. This document corrects that error.

FOR FURTHER INFORMATION CONTACT: Doris B. Tucker, Office of Policy (HF-27), Food and Drug Administration, 5600 Fishers Lane, Rockville, MD 20857, 301-827-7626.

SUPPLEMENTARY INFORMATION: In FR Doc. 02-23193, appearing on page 57827 in the Federal Register of Thursday, September 12, 2002, the following correction is made:

1. On page 57827, in the second column, in the last paragraph, beginning on line 7, the Internet address is corrected to read “http://www.cfsan.fda.gov/~dms/acrylami.html”.

Dated: September 18, 2002.
Margaret M. Dotzel,
Associate Commissioner for Policy.

[FR Doc. 02-24201 Filed 9-23-02; 8:45 am]

BILLING CODE 4160-01-S